DEPARTMENT OF DEFENSE

Defense Acquisition Regulations System

[Docket Number DARS-2020-0033; OMB Control Number 0750-0010]

Information Collection Requirement; Defense Federal Acquisition Regulation Supplement (DFARS) Part 227, Patents, Data, and Copyrights; Small Business Technology Transfer Program

AGENCY: Defense Acquisition Regulations System, Department of Defense (DoD).

ACTION: Notice.

SUMMARY: The Defense Acquisition Regulations System has submitted to OMB for clearance the following proposal for collection of information under the provisions of the Paperwork Reduction Act.

DATES: Consideration will be given to all comments received by October 30, 2024.

ADDRESSES: Written comments and recommendations for the proposed information collection should be sent within 30 days of publication of this notice to https://www.reginfo.gov/public/do/PRAMain. Find this particular information collection by selecting “Currently under 30-day Review—Open for Public Comments” or by using the search function.

You may also submit comments, identified by docket number and title, by the following method: Federal eRulemaking Portal: https://www.regulations.gov. Follow the instructions for submitting comments.

FOR FURTHER INFORMATION CONTACT: Tucker Lucas, 571-372-7574, or whs.mc-alex.esd.mbx.dd-dod-information-collections@mail.mil.

SUPPLEMENTARY INFORMATION:

Title and OMB Number: Defense Federal Acquisition Regulation Supplement (DFARS) Part 227, Patents, Data, and Copyrights; Small Business Technology Transfer Program; OMB Control Number 0750-0010.

Type of Request: New submission.

Affected Public: Businesses or other for-profit and not-for-profit institutions.

Respondent's Obligation: Required to obtain or retain benefits.

Frequency: On Occasion.

Number of Respondents: 302.

Responses per Respondent: 2.

Annual Responses: 604.

Average Burden per Response: 21 hours.

Annual Burden Hours: 12,684.

Needs and Uses: This information collection is a result of a new DFARS requirement to implement the data rights requirements in the Small Business Administration's Small Business Innovation Research (SBIR) and Small Business Technology Transfer (STTR) Program Policy Directive. The DFARS implementation of these requirements includes a new solicitation provision and a new contract clause. The solicitation provision requires offerors to provide a representation and to prepare and submit a written agreement between the offeror and a partnering research institution; the agreement must specify certain aspects such as the allocation of ownership, rights, and responsibilities for intellectual property resulting from the STTR award. The contract clause requires contractors to submit, as necessary, updated versions of the written agreement and written representation.

DoD contracting officers will review the representation and the agreement submitted by the offeror to ensure the agreement does not conflict with the requirements of the solicitation or any right to carry out follow-on research. If such conflicts exist and cannot be resolved, the offeror's proposal will not be eligible for award.

After contract award, if there is a modification to the written agreement between the contractor and partnering research institution, the contracting officer will review the agreement and representation to ensure the modified agreement complies with the requirements of the contract clause.

DoD Clearance Officer: Mr. Tucker Lucas. Requests for copies of the information collection proposal should be sent to Mr. Lucas at whs.mc-alex.esd.mbx.dd-dod-information-collections@mail.mil.

Jennifer D. Johnson,
Editor/Publisher, Defense Acquisition Regulations System.

[FR Doc. 2024-22388 Filed 9-27-24; 8:45 am]

BILLING CODE 6001-FR-P